DEPARTMENT OF ENERGY

Federal Energy Regulatory Commission

[Docket No. CP13-31-000]

Gulf South Pipeline Company, LP; Notice of Application for Abandonment

Take notice that on December 19, 2012, Gulf South Pipeline Company, LP (Gulf South), 9 Greenway Plaza, Suite 2800, Houston, TX 77046, filed in Docket No. CP13-31-000, an application pursuant to sections 157.7 and 157.18 of the Commission's Regulations under the Natural Gas Act (NGA) as amended. Gulf South seeks authority to abandon the Magnolia Gas Storage Facility (Magnolia Facility) at the Napoleonville salt dome in Assumption Parish, Louisiana, and the storage services provided from that facility, all as more fully set forth in the application on file with the Commission and open to public inspection. Gulf South also seeks Commission authority to idle the facilities remaining at the Magnolia Facility which were constructed and placed into natural gas service in 2003, but are not proposed for refunctionalization as transmission facilities in Docket No. CP13-12-000. These facilities will remain physically in place and held for future use.

The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Michael E. McMahon, Senior Vice President and General Counsel; J. Kyle Stephens, Vice President, Regulatory Affairs; or M.L. Gutierrez, Director, Regulatory Affairs, at Boardwalk Pipeline Partners, LP, 9 Greenway Plaza, Suite 2800, Houston, TX 77046, telephone (713) 479-8252, fax (713) 479-1745 or email: Mike.McMahon@bwpmlp.com, Kyle.Stephens@bwpmlp.com or Nell.Gutierrez@bwpmlp.com.

There are two ways to become involved in the Commission's review of this project. First, any person wishing to obtain legal status by becoming a party to the proceedings for this project should, before the comment date of this notice, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project should submit an original and two copies of their comments to the Secretary of the Commission. Environmental commenter's will be placed on the Commission's environmental mailing list, will receive copies of the environmental documents, and will be notified of meetings associated with the Commission's environmental review process. Environmental commenter's will not be required to serve copies of filed documents on all other parties. However, the non-party commentary, will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street NE., Washington, DC 20426.

Comment Date: 5:00 p.m. Eastern Time on January 24, 2013.

Dated: January 3, 2013.
Kimberly D. Bose,
Secretary.

[FR Doc. 2013-00264 Filed 1-8-13; 8:45 am]

BILLING CODE 6717-01-P